DEPARTMENT OF TRANSPORTATION

Office of the Secretary

Notice of Applications for Certificates of Public Convenience and Necessity and Foreign Air Carrier Permits Filed Under Subpart B (Formerly Subpart Q) During the Week Ending June 22, 2001

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-9965.

Date Filed: June 19, 2001.

Due Date for Answers, Conforming Applications, or Motion to Modify Scope: July 10, 2001.

Description: Motion of Air Nauru pursuant to 14 CFR 302.4(f) and subpart B, requesting to file an unauthorized document, and to amend its application for renewal and amendment of its foreign air carrier permit, to be modified to read: between points behind Nauru, via Nauru and intermediate points, and any point or points in the United States and beyond.

Dorothy Y. Beard,
Federal Register Liaison.

[FR Doc. 01-19741 Filed 8-6-01; 8:45 am]

BILLING CODE 4910-62-P